DEPARTMENT OF AGRICULTURE

Forest Service

Eastern Region Recreation Resource Advisory Committee

AGENCY: Forest Service, USDA.

ACTION: Notice of meeting.

SUMMARY: The Eastern Region Recreation Resource Advisory Committee (Recreation RAC) will meet in Baltimore, Maryland. The Recreation RAC is authorized pursuant with the Federal Lands Recreation Enhancement Act (the Act) and the Federal Advisory Committee Act (FACA). Additional information concerning the Recreation RAC may be found by visiting the Recreation RAC's Web site at: http://www.fs.usda.gov/main/r9/recreation/racs.

DATES: The meeting will be held on Thursday, February 1, 2018 from 1:00 p.m. to 4:30 p.m. and Friday, February 2, 2018, from 8:00 a.m. to 4:30 p.m. at the Fairfield Inn & Suites Downtown Baltimore Inner Harbor.

All Recreation RAC meetings are subject to cancellation. For status of the meeting prior to attendance, please contact the person listed under the FOR FURTHER INFORMATION CONTACT.

ADDRESSES: The meeting will be held at the Fairfield Inn & Suites Downtown Baltimore Inner Harbor, 101 S. President Street, Baltimore, MD 21202. The meeting will also be available via teleconference at 888-844-9904, 8400659#.

Written comments may be submitted as described under SUPPLEMENTARY INFORMATION. All comments, including names and addresses, when provided, are placed in the record and available for public inspection and copying. The public may inspect comments received at the Eastern Region, Regional Office located at 626 E. Wisconsin Avenue, Milwaukee, Wisconsin. Please call 541-860-8048 to facilitate entry into the building.

FOR FURTHER INFORMATION CONTACT: Joanna Wilson, Eastern Region Recreation RAC Coordinator by phone at 541-860-8048, or by email at jwilson08@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to review the following fee proposals:

a. Regional fee consistency approach;

b. Monongahela National Forest fee proposals which include the Hopskin Cabin;

c. Wayne National Forest fee proposals reducing trail permit fees for off-highway vehicle (OHV) users and eliminating fees for horse and mountain bike users;

d. Hiawatha National Forest fee proposals for Grand Island;

e. Chequamengon-Nicolet National Forest fee proposals including new fees at day use sites and one cabin rental, and fee increases for overnight sites; and

f. Green Mountain Finger Lakes National Forest fee proposals including new fee at Silver Lake Campgrounds, Texas Falls Day Use Area Pavilion, Grout Pond Campground, Backbone Horse Camp and Potomac Group Camp and Pavilion and fee increases at Chittenden Brook, Moosalamoo Campground, Hapgood Pond Campground, Hapgood Pond Day Use, Hapgood Pond Group Picnic sites, and Blueberry Patch Recreation Area.

Details on all fee proposals can be found at http://www.fs.usda.gov/main/r9/recreation/racs.

The meeting is open to the public. The agenda will include time for people to make oral statements of three minutes or less starting at 3:00 p.m. Individuals wishing to make an oral statement should request in writing by January 22, 2018, to be scheduled on the agenda. Anyone who would like to bring related matters to the attention of the Recreation RAC may file written statements with the Committee's staff before or after the meeting. Written comments and time requests for time to make oral comments must be sent to Joanna Wilson, Eastern Region Recreation RAC Coordinator, 855 South Skylake Drive, Woodland Hills, Utah 84653; or by email to jwilson08@fs.fed.us.

Meeting Accommodations: If you require reasonable accommodation, please make requests in advance for sign language interpreting, assistive listening devices, or other reasonable accommodation. For access to the facility or proceedings, please contact the person listed in the section titled FOR FURTHER INFORMATION CONTACT. All reasonable accommodation requests are managed on a case-by case basis.

Dated: November 6, 2017.
Glenn Casamassa,
Associate Deputy Chief, National Forest System.

[FR Doc. 2017-25114 Filed 11-20-17; 8:45 am]

BILLING CODE 3411-15-P